DEPARTMENT OF ENERGY

Federal Energy Regulatory Commission

[Docket No. CP00-78-000]

Florida Gas Transmission Company and Southern Natural Gas Company; Notice of Application

February 15, 2000.

Take notice that on February 4, 2000, Florida Gas Transmission Company (FGT), 1400 Smith Street, Houston, Texas 77002 and Southern Natural Gas Company (Southern), 1900 Fifth Avenue North, Birmingham, Alabama 35203 filed a joint application in Docket No. CP00-78-000 pursuant to Section 7(b) of the Natural Gas Act, as amended, for permission and approval to abandon by sale to Arrowhead Pipeline, L.P. (Arrowhead), five minor gas supply lines along with related taps, valves, three measurement facilities, a dehydrator facility, and other minor appurtenant facilities located onshore and offshore in Matagorada County, Texas. In addition, the Applicants are seeking determination that these facilities, once conveyed to Arrowhead, will be gathering facilities not subject to the Commission's jurisdiction pursuant to NGA Section 1(b). All as more fully set forth in the joint application on file with the Commission which is open to public inspection. This filing may be viewed on the web at http.//www.ferc.fed.us/online/rims.htm (call 202-208-2222 for assistance).

Communications concerning this filing should be addressed to:

For Florida Gas Transmission Company

Mr. Stephen T. Veatch,

Director, Certificates and Regulatory Reporting—(713)-853-6549, Suite 3997

or Mr. Frazier King, Senior Counsel—(713)-853-7228, Suite 4742

1400 Smith Street,

Florida Gas Transmission Company,

P.O. Box 1188,

Houston, Texas 77251-1188.

For Southern Natural Gas Company

Patrick B. Pope, General Counsel Telephone: (205) 325-7126

or Sandra W. Murvin, Senior Counsel (205) 325-3859,

1900 5th Ave. North,

Southern Natural Gas Company,

Post Office Box 2563,

Birmingham, AL 35202-2563.

It is stated that the facilities that are the subject of this application were initially constructed in order to connect gas supplies to the systems of FGT and SNG for rendering their merchant functions. Since FGT and SNG ceased making sales of gas, deliveries through these facilities have dramatically declined. Thus, these facilities have been underutilized for a number of years.

The Applicants further state that the abandonment and sale of these facilities will eliminate the inefficiencies of under-utilization, reduce operation and maintenance costs, reduce rate base and avoid potential stranded costs while firm service from and to primary points will be maintained by FGT and SNG.

Any person desiring to be heard or to make any protest with reference to said application should on or before March 1, 2000, file with the Federal Energy Regulatory Commission, Washington, D.C. 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that permission and approval for the proposed abandonment is required by the public convenience and necessity. If a motion for leave to intervene is timely filed, or if the Commission on its own motion believes that a formal hearing is required, further notice of such hearing will be duly given.

Under the procedure herein provided for, unless otherwise advised, it will be unnecessary for the Applicants to appear or be represented at the hearing.

David P. Boergers,
Secretary.

[FR Doc. 00-4089 Filed 2-18-00; 8:45 am]

BILLING CODE 6717-01-M